DEPARTMENT OF COMMERCE

National Oceanic and Atmospheric Administration

RIN 0648-XC988

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings, December 9-16, in Anchorage, AK.

DATES: The meetings will be held Monday, December 9 through Monday, December 16, 2013. See SUPPLEMENTARY INFORMATION for specific dates and times.

ADDRESSES: The meetings will be held at the Hilton Hotel, 500 West 3rd Avenue, Anchorage, AK.

Council address: North Pacific Fishery Management Council, 605 W. 4th Avenue, Suite 306, Anchorage, AK 99501-2252.

FOR FURTHER INFORMATION CONTACT: David Witherell, Council staff; telephone: (907) 271-2809.

SUPPLEMENTARY INFORMATION: The Council will begin its plenary session at 8 a.m. on Wednesday, December 11, continuing through Monday, December 16, 2013. The Scientific Statistical Committee (SSC) will begin at 8 a.m. on Monday, December 9 and continue through Wednesday, December 11, the Council's Advisory Panel (AP) will begin at 8 a.m. on Tuesday, December 10 and continue through Friday, December 13. Ecosystem Committee will meet Tuesday, December 10, 2013, at 8 a.m., Birch/Willow room. Enforcement Committee will meet Tuesday, December 10, 2013, 1 p.m., Birch/Willow room. All meetings are open to the public, except executive sessions.

Council Plenary Session: The agenda for the Council's plenary session will include the following issues. The Council may take appropriate action on any of the issues identified.

1. Executive Director's Report

NMFS Management Report (including Update on final 2014 annual deployment plan, update on observer/tendering issue; and update on Limited Access Privilege Program (LAPP) cost recovery; Right of First Refusal (ROFR) clarification from February 2013 Council motion, update on at-sea scales rule; and Essential Fish Habitat (EFH) consultation update (T)) ADF&G Report (including review of Board of Fisheries scallop and pollock proposals, Halibut Subsistence Report) NOAA Enforcement report

U.S. Coast Guard (USCG) Report

Safety report from National Institute Occupational Safety & Health (NIOSH) (T)

U.S. Fish and Wildlife Service (USFWS) Report

Protected Species Report (including Steller Sea Lion (SSL) Environmental Impact Statement (EIS) and Biological Opinion (BiOp0 update)

2. Charter Halibut Issues: Recommendations for 2014 charter halibut management measures.

3. Groundfish Issues: Initial review of Round Island Transit; Final action Gulf of Alaska Rockfish Chinook cap rollover; Initial review of Grenadier management.

4. Final groundfish specifications: Discussion paper on Eastern Gulf of Alaska (EGOA) skate fishery and GOA octopus fishery; Adopt final harvest specifications for Gulf of Alaska groundfish; Adopt final harvest specifications for Bering Sea Aleutian Islands groundfish.

5. Fishing Cooperatives Issues: Discussion paper on Cooperative reporting requirements; Bering Sea Aleutian Island Crab cooperative reports; crew provisions, etc.

6. Miscellaneous Issues: Discussion paper on Bering Sea Aleutian Island Crab right of first refusal (ROFR) contract clarifications; Discussion paper on Gulf of Alaska pot gear for sablefish; develop workplan for Amendment 80 program 5-year review; Ecosystem Committee report on Ecosystem Based Fishery Management/Ecosystem Based Management EBFM/EBM; review Exempted Fishing Permit (EFP) for electronic Monitoring (T); Individual Fishing Quota (IFQ) Implementation Committee report.

7. Staff Tasking: Review Committees and tasking

The Advisory Panel will address most of the same agenda issues as the Council except B reports.

The SSC agenda will include the following issues:

1. GOA and BSAI Groundfish Specifications

2. Round Island Transit

3. Grenadier management

4. Ecosystem Committee report on EBFM/EBM

5. Review of EFP for EM

6. Amendment 80 Workplan

In addition to providing ongoing scientific advice for fishery management decisions, the SSC functions as the Councils primary peer review panel for scientific information as described by the Magnuson-Stevens Act section 302(g)(1)(e), and the National Standard 2 guidelines (78 FR 43066). The peer review process is also deemed to satisfy the requirements of the Information Quality Act, including the OMB Peer Review Bulletin guidelines.

The Agenda is subject to change, and the latest version will be posted at http://www.alaskafisheries.noaa.gov/npfmc/. Background documents, reports, and analyses for review are posted on the Council Web site in advance of the meeting. The names and organizational affiliations of SSC members are also posted on the Web site.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: November 15, 2013.
Tracey L. Thompson,
Acting Deputy Director, Office of Sustainable Fisheries, National Marine Fisheries Service.

[FR Doc. 2013-27797 Filed 11-19-13; 8:45 am]

BILLING CODE 3510-22-P